DEPARTMENT OF HEALTH AND HUMAN SERVICES

Centers for Medicare & Medicaid Services

42 CFR Part 418

[CMS-3844-RCN]

RIN 0938-AH27

Medicare and Medicaid Programs; Hospice Conditions of Participation Extension of Timeline for Publication of Final Rule

AGENCY: Centers for Medicare & Medicaid Services (CMS), HHS.

ACTION: Extension of timeline for publication of final rule.

SUMMARY: This notice announces an extension of the timeline for publication of the “Medicare and Medicaid Programs; Hospice Conditions of Participation” final rule. This notice is issued in accordance with section 1871(a)(3)(B) of the Social Security Act (the Act) which requires notice be provided in the Federal Register if a final regulation, due to exceptional circumstances, will take longer to publish than 3 years after the publication date of the proposed rule. In this case, the complexity of the rule and scope of comments warrants the extension of the timeline for publication.

DATES: Effective Date: This notice is effective on May 27, 2008.

FOR FURTHER INFORMATION CONTACT: Mary Rossi-Coajou, (410) 786-6051, or Danielle Shearer, (410) 786-6617.

SUPPLEMENTARY INFORMATION:

I. Background

On May 27, 2005, we published in the Federal Register a proposed rule (70 FR 30840) that would establish new conditions of participation for Medicare-participating hospices. The proposed revisions would focus on the care delivered to patients and their families and the outcomes of that care by reflecting an interdisciplinary, patient-centered approach to care planning and delivery and allowing hospices flexibility in meeting quality standards.

II. Notice of Continuation

This notice announces an extension of the timeline for publication of a final rule responding to comments on the above proposed rule. Section 1871(a)(3)(B) of the Act requires the Secretary to publish final regulations no later than 3 years after the publication date of the proposed rule. To meet this 3-year timeframe, the final rule would have to be published by May 27, 2008.

Section 1871(a)(3)(B) also provides that under “exceptional circumstances,” the Secretary may extend the initial targeted publication date of a final regulation. The Secretary is required, prior to the regulation's previously established proposed publication date, to provide public notice of this extension in the Federal Register, including a brief explanation of the justification for the variation.

This notice extends the timeline based on the following exceptional circumstances, which we believe, justify such an extension. We are not able to meet the 3-year timeline for publication of the final rule due to the complexity of the rule and the large number of public comments we received.

We received a large volume of timely comments on the proposed rule. The commenters presented extremely complex and detailed policy and legal issues, which require extensive consultation, review, and analysis. Also, the development of the final rule requires collaboration among other agencies under the Department of Health and Human Services (DHHS). We note that extensive coordination has been needed to ensure that these provisions follow guidelines and rules of all affected administrative agencies.

In addition, this final rule is extremely comprehensive because it updates and revises policies, some of which were originally established in 1983, regarding patient assessment, patient care planning and delivery, quality assessment and performance improvement, drug and biologicals management, inpatient care facilities, and the role of hospice care in long term care facilities. Therefore, the incorporation of these updates has required extensive time, outreach, and collaboration to ensure that the final rule's provisions are consistent with current best practices in the provision of hospice services.

We believe that an extension of the publication timeline is necessary and appropriate to ensure that we are able to address all of the comments and issues raised in response to the May 27, 2005 proposed rule. Therefore, this notice extends the timeline for publication of the final rule until May 27, 2009.

Authority: Section 1871 of the Social Security Act (42 U.S.C. 1395hh).

(Catalog of Federal Domestic Assistance Program No. 93.773 Medicare—Hospital Insurance Program; and No. 93.774, Medicare—Supplementary Medical Insurance Program)

Dated: May 21, 2008.
Ann Agnew,
Executive Secretary to the Department.

[FR Doc. E8-11801 Filed 5-23-08; 8:45 am]

BILLING CODE 4120-01-P